DEPARTMENT OF COMMERCE

National Oceanic and Atmospheric Administration

Federal Register Notice Calling for Nominations to Marine Protected Areas Federal Advisory Committee

AGENCY: Marine Protected Areas (MPA), National Ocean Service (NOS), National Oceanic and Atmospheric Administration (NOAA), Department of Commerce (DOC)

ACTION: Notice requesting nominations for the Marine Protected Areas Federal Advisory Committee.

SUMMARY: The Department of Commerce is seeking nominations for membership on the Marine Protected Areas Federal Advisory Committee (Advisory Committee). The Advisory Committee was established to advise the Secretary of Commerce and the Secretary of the Interior in implementing Section 4 of Executive Order 13158, specifically on strategies and priorities for developing the national system of marine protected areas (MPAs) and on practical approaches to further enhance and expand protection of new and existing MPAs.

Nominations are sought for highly qualified non-Federal scientists, resource managers, and people representing other interests or organizations involved with or affected by marine conservation including in the Great Lakes. Fifteen members of the Committee have terms that expire October 31, 2009, and nominations are sought to fill these vacancies.

Individuals seeking membership on the Advisory Committee should possess demonstrable expertise in a related field or represent a stakeholder interest affected by MPAs. Nominees also will be evaluated based on the following factors: Marine policy experience, leadership and organization skills, region of country represented, and diversity characteristics. The membership reflects the Department's commitment to attaining balance and diversity. The full text of the Advisory Committee Charter and its current membership can be viewed at the Agency's Web page at http://mpa.gov.

DATES: Nominations must be postmarked on or before November 30, 2008.

ADDRESS: Nominations should be sent to: Lauren Wenzel, National Marine Protected Areas Center, NOAA, 1305 East-West Highway, Station 9143, Silver Spring, MD 20910. E-mail: Lauren.Wenzel@noaa.gov. E-mail nominations are acceptable.

FOR FURTHER INFORMATION CONTACT: Lauren Wenzel, National Marine Protected Areas Center, 1305 East-West Highway, Building 4, Station 9143, 301-713 3100 ext. 136, Lauren.wenzel@noaa.gov.

SUPPLEMENTARY INFORMATION: In Executive Order 13158, the Department of Commerce and the Department of the Interior were directed to seek the expert advice and recommendations of non-federal scientists, resource managers, and other interested people and organizations through a Marine Protected Areas Federal Advisory Committee. The Advisory Committee was established in June 2003 and includes 30 members.

The Committee meets at least once annually. Committee members serve for one, four year nonrenewable term. Members of the Committee will not be compensated, but may, upon request, be allowed travel and per diem expenses.

Each nomination submission should include the proposed member's name and organizational affiliation, a cover letter describing the nominee's qualifications and interest in serving on the Advisory Committee, curriculum vitae or resume of the nominee, and no more than three supporting letters describing the nominee's qualifications and interest in serving on the Committee. Self-nominations are acceptable. The following contact information should accompany each submission: The nominee's name, address, phone number, fax number, and e-mail address if available.

Dated: September 3, 2008.
David M. Kennedy,
Director, Office of Ocean and Coastal Resource Management.

[FR Doc. E8-20790 Filed 9-8-08; 8:45 am]

BILLING CODE 3510-08-M